DEPARTMENT OF EDUCATION

Notice of Investigation and Record Requests

AGENCY: Office of the General Counsel, Department of Education.

ACTION: Notice.

SUMMARY: The Department publishes these letters, dated June 13, 2019, notifying Georgetown University and Texas A&M University of investigations related to the universities' reports of defined gifts and contracts, including restricted and conditional gifts or contracts, from or with a statutorily defined foreign source.

FOR FURTHER INFORMATION CONTACT: Patrick Shaheen, U.S. Department of Education, Office of the General Counsel, 400 Maryland Ave. SW, Room 6E300, Washington, DC 20202. Telephone: (202) 453-6339. Email: Patrick.Shaheen@ed.gov.

If you use a telecommunications device for the deaf (TDD) or a text telephone (TTY), call the Federal Relay Service, toll free, at 1-800-877-8339.

SUPPLEMENTARY INFORMATION: The Department publishes these letters, dated June 13, 2019, notifying Georgetown University and Texas A&M University of investigations related to the universities' reports of defined gifts and contracts, including restricted and conditional gifts or contracts, from or with a statutorily defined foreign source. The letter to Georgetown University is in Appendix A of this notice. The letter to Texas A&M University is in Appendix B of this notice.

Accessible Format: Individuals with disabilities can obtain this document in an accessible format (e.g., braille, large print, audiotape, or compact disc) on request to the person listed under FOR FURTHER INFORMATION CONTACT.

Electronic Access to This Document: The official version of this document is the document published in the Federal Register. You may access the official edition of the Federal Register and the Code of Federal Regulations at: www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Program Authority: 20 U.S.C. 1011f.

Reed D. Rubinstein,
Acting General Counsel.

Appendix A—Letter to Georgetown University

John J. DeGioia, President

Georgetown University

37th and O Streets, N.W.

Washington, DC 20057

Re: Notice of 20 U.S.C. § 1011f Investigation and Record Request/Georgetown University

Dear President DeGioia:

Section 117 of the Higher Education Act of 1965, 20 U.S.C. § 1011f, requires certain institutions, including Georgetown University, to report statutorily defined gifts and contracts, including restricted and conditional gifts or contracts, from or with a statutorily defined foreign source, to the U.S. Department of Education. These reports may be found at https://studentaid.ed.gov/sa/about/data-center/school/foreign-gifts.

The Department believes Georgetown University's reporting may not fully capture all gifts, contracts, and/or restricted and conditional gifts or contracts from or with all foreign sources (e.g., Chinese nationals and agents who fund the Georgetown Initiative for U.S.-China Dialogue on Global Issues; the government of the People's Republic of China, its agencies, and agents, including but not limited to, the persons known as Huawei Technologies Co. Ltd., Huawei Technologies USA, Inc., and ZTE Corp, their employees, subsidiaries, agents, and affiliates; the government of Saudi Arabia, its agencies, and agents; the government of Qatar, its agencies, and agents, including but not limited to the Qatar Foundation for Education, Science and Community Development). For example, Georgetown University's Section 117 reporting should have included Georgetown University Qatar; all other Georgetown University locations, see https://www.georgetown.edu/locations.html; and all of Georgetown University's affiliated foundations and non-profit organizations, whether or not organized under the laws of the United States (e.g., the Prince Alwaleed bin Talal Center for Muslim-Christian Understanding), that receive gifts, enter into contracts, and/or receive or enter into restricted or conditional gifts or contracts from or with a foreign source and that operate substantially for the benefit or under the auspices of Georgetown University.

Section 117(f), 20 U.S.C. § 1011f(f), provides that whenever it appears an institution has failed to comply with the law, the Secretary of Education may request the Attorney General commence an enforcement action to compel compliance and to recover the full costs to the United States of obtaining compliance, including all associated costs of investigation and enforcement. To meet our statutory duty, the Department has opened an administrative investigation of your institution and requests production of these records within thirty days:

1. All records of (a) gifts from, (b) contracts with, and/or (c) restricted or conditional gifts from or contracts with, foreign sources. The time frame for this request is January 1, 2010, to the present.

2. All records of, regarding, or referencing (a) gifts from, (b) contracts with, and/or (c) restricted or conditional gifts from or contracts with (i) the government of the People's Republic of China, its agencies, and agents, including but not limited to, the persons known as Huawei Technologies Co. Ltd., Huawei Technologies USA, Inc., and ZTE Corp, their subsidiaries, agents, and affiliates; (ii) the government of Saudi Arabia, its agencies, and agents; (iii) the government of Qatar, its agencies, and agents, including but not limited to the Qatar Foundation for Education, Science and Community Development; and (iv) the government of Russia, its agencies, and agents, including but not limited to Kaspersky Lab and Kaspersky Lab US, its agents, employees, and affiliates. The time frame for this request is January 1, 2010, to the present.

3. All records of, regarding, or referencing foreign sources of gifts, contracts, and/or restricted and conditional gifts or contracts related to or for the benefit of Georgetown University Qatar. The time frame for this request is January 1, 2010, to the present.

4. All records of, regarding, or referencing activities taken by Georgetown University to comply with 20 U.S.C. §§ 1011f(a), (b), (c), and (e). The time frame for this request is January 1, 2014, to the present.

5. All records of, regarding, or referencing communications with foreign sources regarding the Georgetown Initiative for U.S.-China Dialogue on Global Issues and the Prince Alwaleed bin Talal Center for Muslim-Christian Understanding. The time frame for this request is January 1, 2014, to the present.

6. All records of, regarding, or referencing communications between Prof. Theodore Moran and Huawei Technologies Co. Ltd., its agents, subsidiaries, and affiliates, including but not limited to Huawei Technologies USA, Inc. The time frame for this request is January 1, 2010, to the present.

7. All records of, regarding, or referencing “Hanban”, the Office of Chinese Language Council International, or the Confucius Institute, their agents, employees, affiliates, or subsidiaries. The time frame for this request is January 1, 2015 to the present.

8. All records of, regarding, or referencing activities taken by or required of Georgetown University to confirm the foreign sources of gifts, contracts, and/or restricted or conditional gifts or contracts (e.g., the government of Qatar, its agencies, and agents; the Qatar Foundation for Education, Science and Community Development; and or persons funding or providing services to the Prince Alwaleed bin Talal Center for Muslim-Christian Understanding) (a) do not engage in, or provide material support to any person who engages in, activities prohibited by 18 U.S.C. §§ 2339, 2339A, 2339B, 2339C, and 2339D; and (b)(i) are not owned or controlled by, (ii) do not act for or on behalf of, assist, sponsor, or provide financial, material, or technological support or other services to, or in support of, and (iii) are not otherwise associated with, any person who is a “Specially Designated Global Terrorist” under Executive Order 13224. The time frame for this request is January 1, 2010, to the present.

9. All IRS Form 990s and schedules, including but not limited to Schedules F and R, for tax years 2014, 2015, 2016, 2017, and 2018, for Georgetown University and Georgetown University Qatar.

As used in this Notice of Investigation and Information Request:

“Contract” is defined at 20 U.S.C. § 1011f(h)(1).

“Foreign source” is defined at 20 U.S.C. § 1011f(h)(2).

“Gift” is defined at 20 U.S.C. § 1011f(h)(3).

“Institution” is at 20 U.S.C. § 1011f(h)(4) and includes all affiliated foundations and non-profit organizations (e.g., the Prince Alwaleed bin Talal Center for Muslim-Christian Understanding), whether or not organized under the laws of the United States, that operate substantially for the benefit or under the auspices of Georgetown University.

“Restricted or conditional gift or contract” is defined by reference to 20 U.S.C. § 1011f(h)(5).

“Record” means all recorded information, regardless of form or characteristics, made or received by you, and including metadata, such as email and other electronic communication, word processing documents, PDF documents, animations (including PowerPoint™ and other similar programs) spreadsheets, databases, calendars, telephone logs, contact manager information, internet usage files, network access information, writings, drawings, graphs, charts, photographs, sound recordings, images, financial statements, checks, wire transfers, accounts, ledgers, facsimiles, texts, animations, voicemail files, data generated by calendaring, task management and personal information management (PIM) software (such as Microsoft Outlook), data created with the use of personal data assistants (PDAs), data created with the use of document management software, data created with the use of paper and electronic mail logging and routing software, and other data or data compilations, stored in any medium from which information can be obtained either directly or, if necessary, after translation by the responding party into a reasonably usable form. The term “recorded information” also includes all traditional forms of records, regardless of physical form or characteristics, including information created, manipulated, communicated, or stored in digital or electronic form.

Your record and data preservation obligations are outlined at Exhibit A. If you claim attorney-client or attorney-work product privilege for a given record, then you must prepare and submit a privilege log expressly identifying each such record and describing the nature of the emails, documents, communications, or tangible things not produced or disclosed in a manner that, without revealing information itself privileged, will enable the Department to assess the validity of your claim. Please note no other privileges apply to this records request.

This investigation will be directed by the Department's Office of General Counsel with support from Federal Student Aid. Your legal counsel should contact:

Reed D. Rubinstein,

Acting General Counsel

U.S. Department of Education

400 Maryland Ave., S.W.

Room 6E300

Washington, D.C. 20202

Reed.Rubinstein@ed.gov

Sincerely,

Mitchell M. Zais, Ph.D.

Appendix B—Letter to Texas A&M

Michael K. Young, President

Office of the President

1246 TAMU

Texas A&M University

College Station, TX 77843-1246

Re: Notice of 20 U.S.C. § 1011f Investigation and Record Request/Texas A&M University.

Dear President Young:

Section 117 of the Higher Education Act of 1965, 20 U.S.C. § 1011f, requires certain institutions, including Texas A&M University, to report statutorily defined gifts, contracts, and/or restricted or conditional gifts or contracts, from or with a statutorily defined foreign source, to the U.S. Department of Education. These reports may be found at https://studentaid.ed.gov/sa/about/data-center/school/foreign-gifts.

The Department believes that Texas A&M University's reporting may not fully capture all covered gifts, contracts, and/or restricted or conditional gifts or contracts, from or with all foreign sources (e.g., the government of Qatar, its agencies, and agents including but not limited to the Qatar Foundation for Education, Science and Community Development, its employees, subsidiaries, agents, and affiliates; the government of the People's Republic of China, its agencies, and agents, including but not limited to, the persons known as Huawei Technologies Co. Ltd., Huawei Technologies USA, Inc., and ZTE Corp, their employees, subsidiaries, agents, and affiliates). For example, Texas A&M University's Section 117 reporting should have included Texas A&M University at Qatar, see e.g., https://www.qatar.tamu.edu/about/ (“As a branch campus, Texas A&M University at Qatar is included in the institution's accreditation”) (last accessed May 28, 2019); all of Texas A&M University's other locations; and all of Texas A&M University's affiliated foundations and non-profit organizations (e.g. the Texas A&M Foundation), whether or not organized under the laws of the United States, that (a) receive gifts, enter into contracts, and/or receive or enter into restricted or conditional gifts or contracts from or with a foreign source, and (b) operate substantially for the benefit or under the auspices of Texas A&M University.

Section 117(f), 20 U.S.C. § 1011f(f), provides that whenever it appears an institution has failed to comply with the law, the Secretary of Education may request the Attorney General commence an enforcement action to compel compliance and to recover the full costs to the United States of obtaining compliance, including all associated costs of investigation and enforcement. To meet our statutory duty, the Department has opened an administrative investigation of your institution and requests production of the following records within thirty (30) days:

1. All records of (a) gifts to, (b) contracts with, and (c) restricted or conditional gifts to or contracts with, foreign sources. The time frame for this request is January 1, 2014, to the present.

2. All records of, regarding, or referencing (a) gifts from, (b) contracts with, and (c) restricted or conditional gifts from or contracts with, (i) the government of Qatar, its agencies, and agents including but not limited to the Qatar Foundation for Education, Science and Community Development and (ii) the government of the People's Republic of China, its agencies, and agents, including but not limited to, the persons known as Huawei Technologies Co. Ltd., Huawei Technologies USA, Inc., and ZTE Corp, and their subsidiaries, agents, and affiliates. The time frame for this request is January 1, 2014, to the present.

3. All records of, regarding, or referencing the establishment and foreign sources of funding for Texas A&M University at Qatar. The time frame for this request is January 1, 2004, to the present.

4. All records of, regarding, or referencing activities taken by or required of Texas A&M University to comply with 20 U.S.C. §§ 1011f(a), (b), (c), and (e). The time frame for this request is January 1, 2014, to the present.

5. All records of, regarding, or referencing communications with the government of Qatar, its agencies, and its agents including but not limited to the Qatar Foundation for Education, Science and Community Development regarding the subject matter of an action titled Qatar Foundation for Education, Science and Community Development v. Ken Paxton, Texas Attorney General (No. D-1-GN-18-006240).

6. All records of, regarding, or referencing a “Memorandum of Understanding” between Texas A&M University at Qatar and “Huawei” signed on or about May 31, 2015. See https://www.gulf-times.com/story/441448/Huawei-supports-Tamuq-s-programme-for-students. (last accessed June 12, 2019). The time frame for this request is January 1, 2013, to the present.

7. All records of, regarding, or referencing “Hanban”, the Office of Chinese Language Council International, or the Confucius Institute, their agents, employees, affiliates, or subsidiaries. The time frame for this request is January 1, 2010 to the present.

8. All records of, regarding, or referencing activities taken by or required of your institution to confirm, foreign sources of gifts, contracts, and/or restricted or conditional gifts or contracts (e.g., the government of Qatar, its agencies, and agents; the Qatar Foundation for Education, Science and Community Development (a) do not engage in, or provide material support to any person who engages in, activities prohibited by 18 U.S.C. §§ 2339, 2339A, 2339B, 2339C, and 2339D; and (b)(i) are not owned or controlled by, (ii) do not act for or on behalf of, assist, sponsor, or provide financial, material, or technological support or other services to, or in support of, and (iii) are not otherwise associated with, any person who is a “Specially Designated Global Terrorist” under Executive Order 13224. The time frame for this request is January 1, 2009, to the present.

9. All IRS Form 990s and schedules, including but not limited to Schedules F and R, for tax years 2014, 2015, 2016, 2017, and 2018, for (a) Texas A&M University, (b) the Texas A&M Foundation, located at 401 George Bush Drive, College Station, TX 77840-2811, and (c) Texas A&M University at Qatar.

As used in this Notice of Investigation and Information Request:

“Contract” is defined at 20 U.S.C. § 1011f(h)(1).

“Foreign source” is defined at 20 U.S.C. § 1011f(h)(2).

“Gift” is defined at 20 U.S.C. § 1011f(h)(3).

“Institution” is defined at 20 U.S.C. § 1011f(h)(4) and includes all affiliated foundations and non-profit organizations (e.g., the Texas A&M Foundation), whether or not organized under the laws of the United States, that operate substantially for the benefit or under the auspices of Texas A&M University.

“Restricted or conditional gift or contract” is defined at 20 U.S.C. § 1011f(h)(5).

“Record” means all recorded information, regardless of form or characteristics, made or received by you, and including metadata, such as email and other electronic communication, word processing documents, PDF documents, animations (including PowerPoint™ and other similar programs) spreadsheets, databases, calendars, telephone logs, contact manager information, internet usage files, network access information, writings, drawings, graphs, charts, photographs, sound recordings, images, financial statements, checks, wire transfers, accounts, ledgers, facsimiles, texts, animations, voicemail files, data generated by calendaring, task management and personal information management (PIM) software (such as Microsoft Outlook), data created with the use of personal data assistants (PDAs), data created with the use of document management software, data created with the use of paper and electronic mail logging and routing software, and other data or data compilations, stored in any medium from which information can be obtained either directly or, if necessary, after translation by the responding party into a reasonably usable form. The term “recorded information” also includes all traditional forms of records, regardless of physical form or characteristics, including information created, manipulated, communicated, or stored in digital or electronic form.

Your record and data preservation obligations are outlined at Exhibit A.

If you claim attorney-client or attorney-work product privilege for a given record, then you must prepare and submit a privilege log expressly identifying each such record and describing the nature of the emails, documents, communications, or tangible things not produced or disclosed in a manner that, without revealing information itself privileged, will enable the Department to assess the validity of your claim. Please note no other privileges apply to this information request.

This investigation will be directed by the Department's Office of General Counsel with support from Federal Student Aid. Your legal counsel should contact:

Reed D. Rubinstein,

Acting General Counsel

U.S. Department of Education

400 Maryland Ave., S.W.

Room 6E300

Washington, D.C. 20202

Reed.Rubinstein@ed.gov

Sincerely,

Mitchell M. Zais, Ph.D.

[FR Doc. 2019-13904 Filed 6-27-19; 8:45 am]

BILLING CODE 4000-01-P